DEPARTMENT OF THE INTERIOR

Bureau of Land Management

[MT-924-5420-EU-E028; NDM 87620]

Application for Recordable Disclaimer of Interest; North Dakota

AGENCY: Bureau of Land Management, Interior.

ACTION: Notice.

SUMMARY: The United States of America, pursuant to the provisions of Section 315 of the Federal Land Policy and Management Act of 1976 (43 U.S.C. 1745 (1994)), proposes to disclaim all interest in the following described land to River Woods West, Inc., the owner of record:

Tracts 1B and 1C of Section 8, T. 138 N., R. 80 W., Fifth Principal Meridian, Burleigh County, North Dakota, pursuant to the plat filed for record in the Office of the Register of Deeds of Burleigh County, North Dakota, as Document No. 407009; and all that part of lots 4, 5, and 6, Block 1, Southport Phase II to the City of Bismarck, Burleigh County, North Dakota, lying within Section 8, T. 138 N., R. 80 W., Fifth Principal Meridian, Burleigh County, North Dakota (this property in Southport Phase II formerly known as Tract 2B of Section 8, T. 138 N., R. 80 W., Fifth Principal Meridian, Burleigh County, North Dakota, is recorded under Document No. 407009 in the Office of the Register of Deeds of Burleigh County, North Dakota), containing 35.54 acres.

DATES: Comments or objections should be received by May 1, 2000.

ADDRESSES: Comments or objections should be sent to the State Director, Montana State Office, Bureau of Land Management, P.O. Box 36800, Billings, Montana 59107.

FOR FURTHER INFORMATION CONTACT: Deborah Sorg, BLM Montana State Office, P.O. Box 36800, Billings, Montana 59107, 406-896-5045.

SUPPLEMENTARY INFORMATION: The official records of the Bureau of Land Management (BLM) were reviewed and a determination made that the United States has no claim to or interest in the land described, and issuance of the proposed recordable disclaimer of interest would remove a cloud on the title to the land. If no objections are received, the disclaimer will be issued.

Dated: January 18, 2000.
John E. Moorhouse,
Acting Deputy State Director, Division of Resources.

[FR Doc. 00-2099 Filed 1-31-00; 8:45 am]

BILLING CODE 4310-$$-U